DEPARTMENT OF ENERGY

Federal Energy Regulatory Commission

Notice of Intent To File an Application for a New License

May 22, 2003.

a. Type of Filing: Notice of Intent to File An Application for a New License.

b. Project No.: 906.

c. Date Filed: May 19, 2003.

d. Submitted By: Virginia Electric and Power Company, d.b.a. Virginia Dominion Power—current licensee.

e. Name of Project: Cushaw Hydroelectric Project.

f. Location: On the James River in Amherst County, Virginia. The project occupies federal land within the Jefferson National Forest.

g. Filed Pursuant to: Section 15 of the Federal Power Act.

h. Licensee Contact: James Thornton, Dominion Virginia Power, (Manager for Licensee), Innsbrook Technical Center, 1 NE., 5000 Dominion Boulevard, Glen Allen, VA 23060, (804) 273-3257.

i. FERC Contact: Janet Hutzel, janet.hutzel@ferc.com, (202) 502-8675.

j. Effective date of current license: September 1, 1980.

k. Expiration date of current license: June 15, 2008.

l. Description of the Project: The project consists of the following existing facilities: (1) A 1,550-foot-long, 27-foot-high concrete dam; (2) a 138-acre reservoir; (3) a powerhouse containing five turbine generating units with a total installed capacity of 7,500 kW; and (4) other appurtenances.

m. Each application for a new license and any competing license applications must be filed with the Commission at least 24 months prior to the expiration of the existing license. All applications for license for this project must be filed by June 15, 2006.

n. A copy of this filing is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or TTY (202) 502-8659. A copy is also available for inspection and reproduction at the address in item h above.

o. Register online at http://www.ferc.gov/esubscribenow.htm to be notified via email of new filings and issuances related to this or other pending projects. For assistance, contact FERC Online Support as shown in the paragraph above.

Magalie R. Salas,
Secretary.

[FR Doc. 03-13484 Filed 5-29-03; 8:45 am]

BILLING CODE 6717-01-P